SECURITIES AND EXCHANGE COMMISSION

Issuer Delisting; Notice of Applicantion to Withdraw from Listing and Registration; (Audiovox Corporation, Class A Common Stock, $.01 Par Value) File No. 1-09532

May 12, 2000.

Audiovox Corporation (“Company”) has filed an application with the Securities and Exchange Commission (“Commission”), pursuant to Section 12(d) of the Securities Exchange Act of 1934 (“Act”) ¹ and Rule 12d2-2(d) thereunder,² to withdraw the security described above (“Security” from listing and registration on the American Stock Exchange LLC (“Amex”).

¹ 15 U.S.C. 78l(d).

² 17 CFR 240.12d2-2(d).

The Company has undertaken to transfer trading in its Security from the Amex to the National Market of the Nasdaq Stock Market, Inc. (“ Nasdaq”), which it considers to be the preeminent marketplace from the securities of companies in its market segment. The Company has registered its Security pursuant to Section 12(g) of the Act ³ by filing a Registration Statement on Form 8-A with the Commission on January 11, 2000. The Security subsequently became designated for quotation and began trading on the Nasdaq National Market, and was simultaneously suspended from trading on the Amex, on January 13, 2000.

³ 15 U.S.C. 78l(g).

The Company has stated that it has complied with the Rules of the Amex governing the withdrawal of its Security from listing and registration on the Exchange, and that the Amex in turn has indicated that it will not oppose such withdrawal.

The Company's application relates solely to the withdrawal of the Security from listing and registration on the Amex and shall have no effect upon the Security's trading and designation for quotation on the Nasdaq National Market or its registration under Section 12(g) of the Act. ⁴

⁴ Id.

Any interested person may, on or before June 5, 2000, submit by letter to the Secretary of the Securities and Exchange Commission, 450 Fifth Street, NW., Washington, DC 20549-0609, fracts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 00-12598 Filed 5-18-00; 8:45 am]

BILLING CODE 8010-01-M